DEPARTMENT OF TRANSPORTATION

Federal Aviation Administration

14 CFR Part 71

[Docket No. FAA-2023-0512; Airspace Docket No. 22-AAL-59]

RIN 2120-AA66

Revocation of Very High Frequency (VHF) Omnidirectional Range (VOR) Federal Airway V-489; Galena, AK

AGENCY: Federal Aviation Administration (FAA), DOT.

ACTION: Final rule.

SUMMARY: This action revokes Alaskan Very High Frequency (VHF) Omnidirectional Range (VOR) Federal Airway V-489. The FAA is taking this action due to automated flight plan conflicts between New York Air Route Traffic Control Center (ARTCC) and Anchorage ARTCC when pilots file V-489 in flight plans.

DATES: Effective date 0901 UTC, August 10, 2023. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Steven Roff, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it proposes to revoke Alaskan VOR Airway V-489.

History

The FAA published a NPRM for Docket No. FAA 2023-0512 in the Federal Register (88 FR 14516; March 9, 2023), proposing to revoke Alaskan VOR Federal Airway V-489. Interested parties were invited to participate in this rulemaking effort by submitting written comments on the proposal. Two comments were received, and both offered alternative solutions to resolve the automated flight plan conflicts between New York ARTCC and Anchorage ARTCC.

Once commentor suggested that air traffic control require pilots to use the term Domestic V-489 when wanting to arrive in the New York area or Alaskan V-489 when wanting to arrive in Alaska. This suggestion, while appreciated, would not resolve the automation conflicts. The conflicts arise when a pilot electronically files their flight plan and V-489 is included in the routing. Automated flight plans that include the Domestic V-489 routinely appear in the Anchorage ARTCC computer system when they are intended for New York ARTCC.

Another commentor suggested to rename one or both VOR routes and to revoke the domestic V-489. The FAA considered both alternative solutions and determined that revoking the Alaskan V-489 would provide the most benefit. The Alaskan V-489 is rarely used and offers indirect routing between the Galena, AK (GAL), VOR/Distance Measuring Equipment (VOR/DME) and the Tanana, AK (TAL), VOR/DME navigational aids (NAVAID). Additionally, two other routes, Alaskan VOR Federal airway V-488 and Area Navigation (RNAV) route T-225, offer direct routing between the Galena, AK, VOR/DME and the Tanana, AK, VOR/DME NAVAIDs. Revoking the Alaskan V-489 would resolve the automated flight plan conflicts and reduce the complexity of route structures within Alaskan airspace. Further, unlike the Alaskan V-489, the domestic V-489 is routinely used by pilots in the New York and New Jersey area.

Incorporation by Reference

Alaskan VOR Federal Airways are published in paragraph 6010(b) of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by revoking Alaskan VOR Federal airway V-489 in its entirety. The domestic VOR Federal airway V-489 remains unchanged.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that the action revoking Alaskan VOR Federal Airway V-489 in Galena, AK, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5.i., which categorically excludes from further environmental impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima, and paragraph 5-6.5k, which categorically excludes from further environmental review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(b) Alaskan VOR Federal Airways.

* * * * *

V-489 [Remove]

* * * * *

Issued in Washington, DC, on May 4, 2023.
Brian Konie,
Acting Manager, Airspace Rules and Regulations.

[FR Doc. 2023-09876 Filed 5-10-23; 8:45 am]

BILLING CODE 4910-13-P